DEPARTMENT OF COMMERCE

National Oceanic and Atmospheric Administration

[RTID 0648-XR094]

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits and Conservation Division, Office of Protected Resources, NMFS, 1315 East-West Highway, Room 13705, Silver Spring, MD 20910; phone (301) 427-8401; fax (301) 713-0376.

FOR FURTHER INFORMATION CONTACT: Office of Protected Resources, Permits and Conservation Division, (301) 427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by Level B harassment of marine mammals. The following Letters of Confirmation (LOC) were issued in Fiscal Year 2019 (October 1, 2018-September 30, 2019).

File No. 21910: Issued to California Wildlife Center (Principal Investigator: Jennifer Brent), 26026 Pimma Road, Calabassas, CA 91302, on October 1, 2018, to obtain baseline data on marine mammal health and populations in remote areas of Malibu to better aid future studies on ocean stock health and to identify previously unreported cases of human interaction and previously tagged animal migration. This work specifically targets the U.S. stock of California sea lion (Zalophus californianus), the California breeding stock of northern elephant seal (Mirounga angustirostris), and the California stock of harbor seal (Phoca vitulina). The LOC expires on September 30, 2023.

File No. 19826-03: Issued to Deanna Rees, Naval Undersea Warfare Center, Division Newport, 1176 Howell Street, Newport, RI 02841, on November 1, 2018, to conduct surveys of gray (Halichoerus grypus atlantica) (Western North Atlantic stock), harbor (Western North Atlantic stock), and harp (Pagophilus groenlandicus) (Western North Atlantic stock) seals in the northeast. The amended LOC adds aerial surveys of pinnipeds via vertical take-off and landing unmanned aircraft systems (UAS). The LOC expires on January 31, 2021.

File No. 22198-01: Issued to Samuel Wasser, Ph.D., Center for Conservation Biology, University of Washington, Seattle, WA 98195, on November 21, 2018, extended the expiration date of the LOC for one year. Research activities include vessel surveys targeting killer whales (Orcinus orca, West Coast Transient stock) within the inland waters of Washington State. The objectives do not change from those previously authorized under LOC No. 22198. The amended LOC clarifies the expiration date relative to the effective date of new Permit No. 22141 (84 FR 22111, May 16, 2019); the LOC subsequently expired on April 30, 2019.

File No. 18218-03: Issued to Dolphin Research Center, (Principal Investigator: Armando Rodriguez), 58763 Overseas Highway, Grassy Key, FL 33050, on November 29, 2018, extended the expiration date of the LOC for one year. The research includes close approach, photo-identification, behavioral observations, passive acoustics, and focal follows of coastal and bottlenose dolphins (Tursiops truncatus) (Florida Bay Stock) in coastal waters of the middle Florida Keys. The objectives do not change from those previously authorized under LOC No.18218-02. The LOC was subsequently terminated on February 5, 2019, when a new LOC (No. 22587, see below) was issued to Dolphin Research Center.

File No. 22081: Issued to Institute for Marine Mammal Studies (Principal Investigator: Mobashir Solangi, Ph.D.), P.O. Box 207, Gulfport, MS 39502, on December 3, 2018, to study cetaceans during vessel and aerial surveys using photo-identification, behavioral observations, photography, filming, and passive acoustic recordings. Research may occur from Lake Borgne, Louisiana to the Alabama/Mississippi state line, including Mississippi, Chandeleur, and Breton Sounds and adjacent waters. The target species is bottlenose dolphins; however research would also occur if any of the following species were observed: Atlantic spotted dolphin (Stenella frontalis), pantropical spotted dolphin (S. attenuata), spinner dolphin (S. longirostris), and pygmy sperm whale (Kogia breviceps). The LOC expires on December 1, 2023.

File No. 22587: Issued to Dolphin Research Center (Principal Investigator: Armando Rodriguez), 58763 Overseas Highway, Grassy Key, FL 33050, on February 5, 2019 to continue vessel surveys for close approach, photo-identification, behavioral observations, passive acoustics, and focal follows of bottlenose dolphins (Florida Bay Stock) in coastal waters of the middle Florida Keys. The objectives of the research are to estimate the distribution, residency, and movement patterns for bottlenose dolphins in the middle Florida Keys. The LOC expires on February 15, 2024.

File No. 18605-01: Issued to Tara Cox, Ph.D., Savannah State University, P.O. Box 20467, Savannah, GA 31404, on February 14, 2019, extended the expiration date of the LOC for one year. The research includes close approach, photo-identification, behavioral observations, passive acoustics, and focal follows of coastal and offshore bottlenose dolphins, Atlantic and pantropical spotted dolphins, short-finned pilot whales (Globicephala macrorhynchus), beaked whales (Family Ziphiidae), and Risso's dolphins (Grampus griseus) in estuarine and coastal waters of Georgia and South Carolina. The objectives do not change from those previously authorized under LOC No. 18605-01. The LOC was subsequently terminated on May 13, 2019, when a new LOC (File No. 22807) was issued to Dr. Cox.

File No. 22725: Issued to the Texas Marine Mammal Stranding Network (Responsible Party: Heidi Whitehead), 4700 Avenue U, Galveston, TX 77351, on April 15, 2019, to conduct vessel surveys, observations and photo-identification of bottlenose dolphins in Texas waters. The objectives of the research are to determine abundance estimates, examine habitat-use and site fidelity, document human-related injuries and interactions, and study the behavior ecology of dolphin stocks found in Texas bays, sounds, and estuaries. The LOC expires on April 30, 2024.

File No. 22807: Issued to Tara Cox, Ph.D., Savannah State University, P.O. Box 20467, Savannah, GA 31404, on May 13, 2019, to conduct vessel surveys, behavioral observations, and photo-identification of cetaceans in waters from the Georgia/South Carolina border south to Altamaha Sound. The objectives of the research are to continue a long-term study of the foraging ecology, social structure, and population ecology of bottlenose dolphins in the area. Atlantic spotted dolphins, short-finned pilot whales, beaked whales, and Risso's dolphins will be studied if encountered. The LOC expires on May 31, 2024.

File No. 22820: Issued to Danielle Brown, Rutgers University, 72 Locust Avenue, Neptune City, NJ 07753, on May 30, 2019, to conduct vessel-based surveys of the West Indies Distinct Population segment of humpback whales (Megaptera novaeangliae) for counts, photo-identification, photography, and observation in New Jersey waters. Bottlenose dolphins (Western North Atlantic Northern Migratory Coastal stock) and minke whales (Balaenoptera acutorostrata) may also be opportunistically encountered. The objectives of the research are to collect spatial and temporal data to understand species distribution, to identify distribution hotspots, and to establish a baseline for humpback whale behavior in the apex of the New York Bight. The LOC expires on May 31, 2024.

File Nos. 18101-04 and 18101-05: Issued to Pacific Whale Foundation (Principal Investigator: Jens Currie), 300 Ma'alaea Road, Suite 211, Wailuku, HI 96793, on June 21, 2019, extended the expiration date of the LOC until August 14, 2019. The LOC was extended for an additional 30 days on August 14, 2019, to expire on September 15, 2019. The objectives do not change from those authorized under LOC No. 18101-03. The research authorizes counts, photo-identification, behavioral observations, focal follows, underwater photography/videography, and photogrammetry of 15 species of cetaceans during vessel line transect surveys within the waters of Maui County, Hawaii. The objectives did not change from those previously authorized. LOC No. 18101-05 was subsequently terminated on August 27, 2019, when amended permit No. 21321-01 was issued to Pacific Whale Foundation (84 FR 48600, September 16, 2019).

File No. 22856: Issued to Patricia Fair, Ph.D., South Carolina Aquarium, 100 Aquarium Wharf, Charleston, SC 29401, on July 22, 2019, to conduct vessel surveys, photo-identification, photogrammetry, and behavioral observations of bottlenose dolphins (Charleston Estuarine System stock). Research will occur in estuarine waters near Charleston, South Carolina, including Charleston Harbor and the Ashley, Cooper, and Wando Rivers. The objective of the research is to assess whether the Charleston Harbor Deepening Project will affect the distribution, abundance and behavior of dolphins in this area. The LOC expires on August 31, 2024.

File No. 19826-04: Issued to Deanna Rees, Naval Undersea Warfare Center, Division Newport, 1176 Howell Street, Newport, RI 02841, on July 30, 2019, to conduct surveys of gray, harbor, and harp seals in the northeast U.S. The amended LOC adds additional UAS surveys, as well as the installation and use of remote cameras for monitoring. The LOC expires on January 31, 2021.

File No. 20377-02: Issued to Wendy Noke Durden, Hubbs-Sea World Research Institute, 3830 South Highway A1A #4-181, Melbourne Beach, FL 32951 on August 8, 2019, to conduct behavioral observations, passive acoustic recording, monitoring, photo-identification, photography, and video of bottlenose dolphins during vessel surveys. Research takes place in the inland waters of the Indian River Lagoon estuary to the Intracoastal Waters of the Halifax Rivers estuary. The amended LOC adds UAS as a tool to collect data. The objectives do not change from those previously authorized. The LOC expires on September 1, 2021.

File No. 22813: Issued to Alejandro Acevedo-Gutiérrez, Ph.D., Western Washington University, 516 High Street, Bellingham, WA 98225, on August 30, 2019, for observation/monitoring, videography, and scat collection during ground and UAS surveys of harbor seals (Washington Inland Waters stock) within inland waters of Washington State. The LOC expires on August 31, 2024.

In compliance with the National Environmental Policy Act of 1969 (42 U.S.C. 4321 et seq.), a final determination has been made that the activities are categorically excluded from the requirement to prepare an environmental assessment or environmental impact statement.

Dated: January 28, 2020.
Julia Harrison,
Chief, Permits and Conservation Division, Office of Protected Resources, National Marine Fisheries Service.

[FR Doc. 2020-02110 Filed 2-3-20; 8:45 am]

BILLING CODE 3510-22-P